NATIONAL AERONAUTICS AND SPACE ADMINISTRATION

Notice: (14-005)

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Frances Teel, National Aeronautics and Space Administration, Mail Code JF-000, Washington, DC 20546-0001.

FOR FURTHER INFORMATION CONTACT: Requests for additional information or copies of the information collection instrument(s) and instructions should be directed to Frances Teel, NASA Clearance Officer, NASA Headquarters, 300 E Street SW., JF0000, Washington, DC 20546.

SUPPLEMENTARY INFORMATION:

I. Abstract

The information submitted by recipients is an annual report of Government-owned property in the possession of Educational or Nonprofit institutions holding NASA grants. In addition the annual report, a property report may also be required at the end of the grant, or on the occurrence of certain events. The collected information is used by NASA to effectively maintain an appropriate internal control system for equipment and property provided or acquired under grants and cooperative agreements with institutions of higher education and other nonprofit organizations, and to comply with statutory requirements.

II. Method of Collection

NASA is participating in Federal efforts to extend the use of information technology to more Government processes via Internet.

III. Data

Title: Property Inventory Report—Grants with Educational and Nonprofit Entities (formerly titled: NASA Inventory Report: Property Management & Control, Grants).

OMB Number: 2700-0047.

Type of review: Reinstatement with Change/Previously Approved Information Collection.

Affected Public: Educational institutions and Not-for-profit institutions.

Estimated Number of Respondents: 255.

Estimated Time per Response: 2 hours per submission, and 8 hours of annual recordkeeping.

Estimated Total Annual Burden Hours: 2014 hours.

Estimated Total Annual Cost: $78,104.60.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2014-01689 Filed 1-28-14; 8:45 am]

BILLING CODE 7510-13-P